DEPARTMENT OF HEALTH AND HUMAN SERVICES

Centers for Disease Control and Prevention

[30Day-0450X]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 498-1210 or send an e-mail to omb@cdc.gov. Send written comments to CDC Desk Officer, Human Resources and Housing Branch, New Executive Office Building, Room 10235, Washington, DC 20503 or by fax to (202) 395-6974. Written comments should be received within 30 days of this notice.

Proposed Project

Evaluation of the Poison Help Campaign to Enhance Public Awareness of the National Poison Toll-Free Number, Poison Center Access, and Poison Prevention—New—National Center for Injury Control and Prevention (NCIPC), Centers for Disease Control and Prevention (CDC).

Background and brief description:

Every day more than 6,000 calls about poison emergencies are placed to poison control centers (PCCs) throughout the United States. Although PCCs clearly save lives and reduce healthcare costs, the system that delivers care and prevents poisoning is comprised of more than 131 telephone numbers and thousands of disjointed local prevention efforts. As a result public and professional access to an essential emergency service has been hampered by a confusing array of telephone numbers and by an inability to mount a full-fledged national poison center awareness campaign.

The Poison Control Center Enhancement and Awareness Act of 2000 (Pub. L. 106-174) was signed into legislation in February 2000 with the intent to provide assistance for poison prevention and to stabilize funding of regional PCCs. In October 1999, in response to the impending passage of this legislation, CDC and the Health Services Resource Administration (HRSA) began funding and administering a cooperative agreement with the American Association of Poison Control Centers (AAPCC). The agreement called for the establishment of a National Poison Prevention and Control Program. The purpose of this program is to support an integrated system of poison prevention and control services including: coordination of all PCCs through development, implementation, and evaluation of standardized public education; development of a plan to improve national toxicosurveillance and data systems; and support of a national public service media campaign.

The purpose of the national media campaign is to launch a national toll-free helpline entitled Poison Help (1-800-222-1222) that the general public, health professionals, and others can use to access poison emergency services and prevention information 24 hours a day, seven days a week. The campaign was launched nationally in January 2002 with a special interest in targeting high-risk populations such as parents of children under age 6, older adults between 60-80 years of age, and underserved groups who are often not reached effectively through public health communication efforts.

Two telephone surveys will be conducted to assess the reach and impact of campaign activities and the overall effectiveness of the awareness campaign. The High-Risk Population Survey will be conducted with parents of children under age 6 to assess their awareness of the national toll-free number, awareness of PCCs and the services they provide, and poison prevention knowledge. The High-Risk Population Survey was originally intended to also gather information from older adults ages 60-80, however, limited resources necessitate that the data collection focus on poisonings among young children, which represent more than half of all unintentional poisonings. The Helpline Caller Survey will be conducted with persons who have contacted a PCC to ascertain whether callers have seen or heard Poison Help prevention messages, their awareness of the 1-800-222-1222 number and how they learned of it, and how they rate the ease of accessing poison emergency services or prevention information. There is no cost to respondents other than their time. The estimated annualized burden is 157 hours.

Annualized Burden Table:

Respondents | Number of respondents | Number of responses/respondents | Average burden/respondents (in hours)
Screened Households:
Helpline Callers | 430 | 1 | .5/60
High-Risk Population | 1400 | 1 | 1/60
Respondents:
Helpline Callers | 300 | 1 | 10/60
High-Risk Population | 600 | 1 | 8/60

Dated: November 24, 2004.
B. Kathy Skipper,
Acting Director, Management Analysis and Services Office, Centers for Disease Control and Prevention.

[FR Doc. 04-26487 Filed 11-30-04; 8:45 am]

BILLING CODE 4163-18-P